DEPARTMENT OF ENERGY

Federal Energy Regulatory Commission

Combined Notice of Filings #1

July 24, 2006.

Take notice that the Commission received the following exempt wholesale generator filings:

Docket Numbers: EG06-64-000.

Applicants: Mesquite Wind LLC.

Description: Mesquite Wind, LLC Submits a Notice of Self-Certification of Exempt Wholesale Generator Status pursuant to sections 366.1 and 3.66.7 of the Commission's Regulations and section 1266 of PUHCA.

Filed Date: 07/19/2006.

Accession Number: 20060719-5036.

Comment Date: 5 p.m. Eastern Time on Wednesday, August 9, 2006.

Docket Numbers: EG06-65-000.

Applicants: FPL Energy Mower County, LLC.

Description: FPL Energy Mower County, LLC submits a Notice of Self Certification of Exempt Wholesale Generator Status pursuant to Sections 366.7 of Commission's Regulations and PUHCA.

Filed Date: 07/19/2006.

Accession Number: 20060719-5051.

Comment Date: 5 p.m. Eastern Time on Wednesday, August 9, 2006.

Take notice that the Commission received the following electric rate filings:

Docket Numbers: ER94-389-024; ER02-2509-003; ER00-840-004; ER01-137-002; ER98-1767-007; ER99-2992-004; ER99-3165-004; ER02-1942-003; ER01-596-002; ER01-2690-006; ER02-77-006; ER02-2550-004; ER00-1780-004; ER99-415-011; ER01-389-004.

Applicants: Tenaska Power Services Company; Kiowa Power Partners, LLC; Tenaska Alabama Partners, L.P.; Tenaska Alabama II Partners, L.P.; Tenaska Frontier Partners, Ltd.; Tenaska Gateway Partners, Ltd.; Tenaska Georgia Partners, L.P.; Tenaska Virginia Partners, L.P.; Alabama Electric Marketing, LLC; California Electric Marketing, LLC; New Mexico Electric Marketing, LLC; Tenaska-Oxy Power Services, L.P.; Texas Electric Marketing, LLC; Commonwealth Chesapeake Company, LLC; Calumet Energy Team, LLC.

Description: Tenaska Power Services Company, et al. submit Updated Market Power Analysis.

Filed Date: 07/19/2006.

Accession Number: 20060724-0044.

Comment Date: 5 p.m. Eastern Time on Wednesday, August 9, 2006.

Docket Numbers: ER97-2801-012.

Applicants: PacifiCorp.

Description: PacifiCorp Energy submits Second Revised Sheets 1 and No. 5 to FERC Tariff, Fourth Revised Volume No. 12, effective 3/21/06.

Filed Date: 07/20/2006.

Accession Number: 20060724-0090.

Comment Date: 5 p.m. Eastern Time on Thursday, August 10, 2006.

Docket Numbers: ER98-2783-009; ER99-3822-008; ER00-3696-005; ER99-2602-005; ER96-1947-019; ER05-1266-003; ER98-2682-011; ER01-1619-008; ER02-443-007; ER98-2681-011; ER98-2680-011; ER99-1785-010.

Applicants: Bridgeport Energy LLC; Casco Bay Energy Company, LLC; Griffith Energy LLC; LSP-Kendall Energy, LLC; LS Power Marketing, LLC; Ontelaunee Power Operating Company, LLC; LSP Oakland, LLC; LSP Mohave, LLC; LSP Arlington Valley, LLC; LSP Morro Bay, LLC; LSP Moss Landing, LLC; LSP South Bay, LLC.

Description: LSP Entities submit supplemental information to the notice of non-material change in status filed on 6/2/06.

Filed Date: 07/19/2006.

Accession Number: 20060721-0053.

Comment Date: 5 p.m. Eastern Time on Wednesday, August 9, 2006.

Docket Numbers: ER99-2948-008; ER00-2918-007; ER00-2917-007; ER05-261-004; ER01-556-006; ER01-557-006; ER01-558-006; ER01-559-006; ER01-560-006; ER01-1654-009; ER01-2641-007; ER02-2567-007; ER05-728-004; ER01-1949-007; ER04-485-004.

Applicants: Baltimore Gas & Electric Company; Constellation Power Source Generation, Inc.; Calvert Cliffs Nuclear Power Plant, Inc.; Constellation Energy Commodities Group, Inc.; Handsome Lake Energy, LLC; University Park Energy; Holland Energy, LLC; Wolf Hills Energy, LLC; Big Sandy Peaker Plant, LLC; Nine Mile Point Nuclear Station, LLC; High Desert Power Project, LLC; Constellation NewEnergy, Inc.; Constellation Energy Commodities Group Maine, LLC; Power Provider LLC; R.E. Ginna Nuclear Power Plant, LLC.

Description: Constellation MBR Entities submit a Notice of Change in Status with respect to a recent transaction entered into with Constellation Energy Commodities Group, Inc and one of the Constellation MBR Entities.

Filed Date: 07/17/2006

Accession Number: 20060717-5062.

Comment Date: 5 p.m. Eastern Time on Monday, August 7, 2006.

Docket Numbers: ER06-20-004.

Applicants: E.ON U.S., LLC; Louisville Gas & Electric Company; Kentucky Utilities Company.

Description: E.ON U.S. LLC et al. submit a compliance filing pursuant to the Commission's Order issued July 7, 2006.

Filed Date: 07/19/2006.

Accession Number: 20060720-008.9

Comment Date: 5 p.m. Eastern Time on Wednesday, August 9, 2006.

Docket Numbers: ER06-881-003.

Applicants: Midwest Independent Transmission System Operator, Inc.

Description: Midwest Independent Transmission System Operator, Inc. submits a second errata to its supplemental information and amendment to its 7/10/06 filing.

Filed Date: 07/20/2006.

Accession Number: 20060724-0089.

Comment Date: 5 p.m. Eastern Time on Thursday, August 10, 2006.

Docket Numbers: ER06-1260-000.

Applicants: Northern Indiana Public Service Company; Whiting Clean Energy, Inc.

Description: Northern Indiana Public Service Company, et al. submit an application for waivers of codes of conduct contained in their market-based rate tariff.

Filed Date: 07/19/2006.

Accession Number: 20060720-0084.

Comment Date: 5 p.m. Eastern Time on Wednesday, August 09, 2006.

Docket Numbers: ER06-1261-000.

Applicants: FPL Energy Mower County, LLC.

Description: FPL Energy Mower County, LLC submits a request for authorization to sell energy and capacity at market-based rates.

Filed Date: 07/19/2006.

Accession Number: 20060720-0085.

Comment Date: 5 p.m. Eastern Time on Wednesday, August 9, 2006.

Docket Numbers: ER06-1262-000.

Applicants: Maine Yankee Atomic Power Company.

Description: Maine Yankee Atomic Power Co. submits Second Revised Rate Schedule FERC 1 pursuant to FERC Order 614 and supporting documents for its proposed adjustment to its PBOP trust.

Filed Date: 07/19/2006.

Accession Number: 20060720-0086.

Comment Date: 5 p.m. Eastern Time on Wednesday, August 9, 2006.

Docket Numbers: ER06-1263-000.

Applicants: PJM Interconnection, LLC.

Description: PJM Interconnection, LLC submits revisions to its OAT Tariff, its Amended and Restated Operating Agreement, its Reliability Assurance Agreement, and its West Reliability Assurance Agreement.

Filed Date: 07/19/2006

Accession Number: 20060720-0087.

Comment Date: 5 p.m. Eastern Time on Wednesday, August 9, 2006.

Docket Numbers: ER06-1265-000.

Applicants: Orlando CoGen Limited, L.P.

Description: Orlando CoGen Limited, LP submits a petition for acceptance of its initial tariff and associated waivers and authorizations.

Filed Date: 07/20/2006.

Accession Number: 20060724-0043

Comment Date: 5 p.m. Eastern Time on Thursday, August 10, 2006.

Docket Numbers: ER06-1266-000.

Applicants: Niagara Mohawk Power Corporation.

Description: Niagara Mohawk Power Corp. submits an Amended and Restated Exit Agreement—Supplement No 11 to its Rate Schedule FERC 176.

Filed Date: 07/20/2006.

Accession Number: 20060724-0092.

Comment Date: 5 p.m. Eastern Time on Thursday, August 10, 2006.

Docket Numbers: ER06-1267-000.

Applicants: Fitchburg Gas and Electric Light Company.

Description: Fitchburg Gas and Electric Light Co. submits data and schedules used to calculate its annual transmission revenue requirement for Non-PTF Local Network Transmission Service etc.

Filed Date: 07/20/2006.

Accession Number: 20060724-0091.

Comment Date: 5 p.m. Eastern Time on Thursday, August 10, 2006.

Take notice that the Commission received the following public utility holding company filings:

Docket Numbers: PH06-101-000.

Applicants: The Laclede Group, Inc.

Description: The Laclede Group, Inc. submits a petition for waiver of the Commission's accounting, record retention and reporting requirements pursuant to sections 366.21, 366.22, and 366.23 of the Commission's Regulations.

Filed Date: 07/14/2006.

Accession Number: 20060720-0080.

Comment Date: 5 p.m. Eastern Time on Friday, August 4, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive email notification when a document is added to a subscribed dockets(s). For assistance with any FERC Online service, please e-mail FERCOnlineSupport@ferc.gov or call (866) 208-3676 (toll free). For TTY, call (202) 502-8659.

Magalie R. Salas,
Secretary.

[FR Doc. E6-12261 Filed 7-28-06; 8:45 am]

BILLING CODE 6717-01-P